INTERNATIONAL TRADE COMMISSION

[Investigation No. 337-TA-1435]

Certain Electrolyte Containing Beverages and Labeling and Packaging Thereof (II); Notice of Institution of Investigation

AGENCY: U.S. International Trade Commission.

ACTION: Notice.

SUMMARY: Notice is hereby given that a complaint was filed with the U.S. International Trade Commission on December 27, 2024, under section 337 of the Tariff Act of 1930, as amended, on behalf of CAB Enterprises, Inc. of Houston, Texas, Sueros y Bebidas Rehidratantes, S.A. de C.V. of Mexico, Brazos River Ventures LLC of Albany, New York, and Electrolit Manufacturing USA Inc. of Albany, New York. A supplement to the Complaint was filed on January 15, 2025. The complaint, as supplemented, alleges violations of section 337 based upon the importation into the United States, the sale for importation, and the sale within the United States after importation of certain electrolyte containing beverages and labeling and packaging thereof by reason of infringement of one of more of U.S. Trademark Registration No. 4,222,726 (“the '726 mark”); U.S. Trademark Registration No. 4,833,885 (“the '885 mark”); U.S. Trademark Registration No. 4,717,350 (“the '350 mark”); and U.S. Trademark Registration No. 4,717,232 (“the '232 mark”) (collectively, “Asserted Trademarks”). The complaint, as supplemented, further alleges that an industry in the United States exists or is in the process of being established as required by the applicable Federal Statute.

The complainants request that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2025).

Scope of Investigation: Having considered the complaint, the U.S. International Trade Commission, on January 28, 2025, ordered that—

(1) Pursuant to subsection (b) of section 337 of the Tariff Act of 1930, as amended, an investigation be instituted to determine: whether there is a violation of subsection (a)(1)(C) of section 337 in the importation into the United States, the sale for importation, or the sale within the United States after importation of certain products identified in paragraph (2) by reason of infringement of one or more of the Asserted Trademarks, and whether an industry in the United States exists or is in the process of being established as required by subsection (a)(2) of section 337;

(2) Pursuant to section 210.10(b)(1) of the Commission's Rules of Practice and Procedure, 19 CFR 210.10(b)(1), the plain language description of the accused products or category of accused products, which defines the scope of the investigation, is “electrolyte beverages and associated packaging and labels that bear the Electrolit® Asserted Trademarks”;

(3) For the purpose of the investigation so instituted, the following are hereby named as parties upon which this notice of investigation shall be served:

(a) The complainants are:

CAB Enterprises, Inc., 3201 Allen Parkway, Suite 100, Houston, Texas 77019

Sueros y Bebidas Rehidratantes, S.A. de C.V., Av. Espana No. 1840, Colonia Moderna, C.P. 44190, Guadalajara, Jalisco, Mexico

Brazos River Ventures LLC, 300 Great Oaks Blvd., Suite 325, Albany, NY 12203

Electrolit Manufacturing USA Inc., 300 Great Oaks Blvd., Suite 325, Albany, NY 12203

(b) The respondents are the following entities alleged to be in violation of section 337, and are the parties upon which the complaint and supplement is to be served:

Empacadora Torres Mora, S. de R.L. de C.V., Nueva York 4037, Monterrey, Nuevo Leon 64310, Mexico

Version Expotaciones, S.R.L. de C.V., Lic. Martin Careaga 100 Esquina y, Sor Juana Ines de La Cruz, Tijuana, Baja California Norte 22536, Mexico

Mabed Distribuciones, S.A. de C.V., Avenida Paseo de La Reforma 17, Matamoros, Tamaulipas 87300, Mexico

Salfe International Trade, S. de R.L. de C.V., Calle Callejon de Capellania 210, Garza Garcia, Nuevo Leon 66266, Mexico

Exportadora de Abarrotes del Pacifico, S.A. de C.V., Avenida Matamoros 120, Torreon, Coahuila 27000, Mexico

Centro de Distribucion de Carbon Allende, S.A. de C.V., Carretera El Cerrito, Allende, Nuevo Leon 67353, Mexico

Wenceslao Colunga Ruiz, Carreta al Puente Internacional KM 6, Camargo, Tamaulipas 88440, Mexico

Distribuidora de Productos Heres, S.A. de C.V., Industrial 2813 Empresarial, Allende, Nuevo Leon 67350, Mexico

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of a respondent to file a timely response to each allegation in the complaint, as supplemented, and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: January 28, 2025.
Lisa Barton,
Secretary to the Commission.

[FR Doc. 2025-02086 Filed 1-31-25; 8:45 am]

BILLING CODE 7020-02-P